INTERNATIONAL TRADE COMMISSION

[Investigation No. 337-TA-1139]

Certain Electronic Nicotine Delivery Systems and Components Thereof; Institution of Investigation

AGENCY: U.S. International Trade Commission.

ACTION: Correction of Notice.

SUMMARY: Correction is made to notice 83 FR 64156, which was published on December 13, 2018; the investigation number, “Investigation No. 337-TA-1139,” is erroneously missing from the title of the investigation.

By order of the Commission.
Issued: December 20, 2018.
Lisa Barton,
Secretary to the Commission.

[FR Doc. 2018-28176 Filed 12-27-18; 8:45 am]

BILLING CODE P